DEPARTMENT OF LABOR

Employment and Training Administration

[TA-W-50,499]

Marion County Shirt Company, Ark Management Consultants, Marshall, AR; Amended Certification Regarding Eligibility To Apply for Worker Adjustment Assistance

In accordance with section 223 of the Trade Act of 1974 (19 U.S.C. 2273) the Department of Labor issued a Certification of Eligibility to Apply for Worker Adjustment Assistance on February 10, 2003, applicable to workers of Marion County Shirt Company, Marshall, Arkansas. The notice was published in the Federal Register on March 26, 2003 (68 FR 14708).

At the request of the State agency, the Department reviewed the certification for workers of the subject firm. The workers are engaged in the production of men's woven dress shirts.

New information shows that some workers separated from employment at the subject firm had their wages reported under a separate unemployment insurance (UI) tax account for Ark Management Consultants. Accordingly, the Department is amending the certification to properly reflect this matter.

The intent of the Department's certification is to include all workers of Marion County Shirt Company, Marshall, Arkansas, who were adversely affected by increased imports.

The amended notice applicable to TA-W-50,499 is hereby issued as follows:

All workers of Marion County Shirt Company, Ark Management Consultants, Marshall, Arkansas, who became totally or partially separated from employment on or after January 6, 2002, through February 10, 2005, are eligible to apply for adjustment assistance under section 223 of the Trade Act of 1974.

Signed in Washington, DC, this 16th day of April, 2004.
Linda G. Poole,
Certifying Officer, Division of Trade Adjustment Assistance.

[FR Doc. E4-965 Filed 4-29-04; 8:45 am]

BILLING CODE 4510-13-P